ENVIRONMENTAL PROTECTION AGENCY

40 CFR Part 52

[EPA-R10-OAR-2007-0110; FRL-8330-8]

Approval and Promulgation of Implementation Plans; Idaho and Washington; Interstate Transport of Pollution

AGENCY: Environmental Protection Agency (EPA).

ACTION: Proposed rule.

SUMMARY: EPA is proposing to approve the actions of the Idaho Department of Environmental Quality (IDEQ) an the Washington State Department of Ecology (Ecology) to address the provisions of Clean Air Act section 110(a)(2)(D)(i) for the 8-hour ozone and PM2.5 National Ambient Air Quality Standards (NAAQS). These provisions require each state to submit a State Implementation Plan (SIP) revision that prohibits emissions that adversely affect another state's air quality through interstate transport. EPA is proposing to approve IDEQ's and Ecology's SIP revisions because they adequately address the four distinct elements related to the impact of interstate transport of air pollutants for their states. These include prohibiting emissions that contribute significantly to nonattainment of the NAAQS in another state, interfere with maintenance of the NAAQS by another state, interfere with plans in another state to prevent significant deterioration of air quality, or interfere with efforts of another state to protect visibility.

DATES: Comments must be received on or before July 26, 2007.

ADDRESSES: Submit your comments, identified by Docket ID No. EPA-R10-OAR-2006-0110, by one of the following methods:

• http://www.regulations.gov. Follow the on-line instructions for submitting comments.

• Mail: Dana Warn, Office of Air, Waste and Toxics, AWT-107 EPA, Region 10, 1200 Sixth Ave., Seattle, Washington 98101.

• Hand Delivery or Courier: EPA, Region 10 Mail Room, 9th Floor, 1200 Sixth Ave., Seattle, Washington 98101. Attention: Dana Warn, Office of Air, Waste and Toxics, AWT-107. Such deliveries are only accepted during normal hours of operation, and special arrangements should be made for deliveries of boxed information.

Please see the direct final rule which is located in the Rules section of this Federal Register for detailed instructions on how to submit comments.

FOR FURTHER INFORMATION CONTACT: Dana Warn at telephone number: (206) 553-6390 or Donna Deneen at (206) 553-6706, e-mail address: deneen.donna@epa.gov, fax number: (206) 553-0110, or the above EPA, Region 10 address.

SUPPLEMENTARY INFORMATION: For further information, please see the direct final action, of the same title, which is located in the Rules section of this Federal Register. EPA is approving the State's SIP revision as a direct final rule without prior proposal because EPA views this as a noncontroversial SIP revision and anticipates no adverse comments. A detailed rationale for the approval is set forth in the preamble to the direct final rule. If EPA receives no adverse comments, EPA will not take further action on this proposed rule.

If EPA receives adverse comments, EPA will withdraw the direct final rule and it will not take effect. EPA will address all public comments in a subsequent final rule based on this proposed rule. EPA will not institute a second comment period on this action. Any parties interested in commenting on this action should do so at this time. Please note that if we receive adverse comment on an amendment, paragraph, or section of this rule and if that provision may be severed from the remainder of the rule, EPA may adopt as final those provisions of the rule that are not the subject of an adverse comment.

Dated: June 14, 2007.
Michael F. Gearheard,
Acting Regional Administrator, Region 10.

[FR Doc. E7-12235 Filed 6-25-07; 8:45 am]

BILLING CODE 6560-50-P